DEPARTMENT OF LABOR

Employment and Training Administration

[TA-W-80,490]

Novartis Pharmaceuticals Corporation, Primary Care Business Unit (Sales) Division, East Operating Unit, Including On-Site Leased Workers From Inventiv Health, Ashfield Healthcare, and Pro Unlimited, East Hanover, NJ and Off-Site Workers of Novartis Pharmaceuticals Corporation, Primary Care Business Unit (Sales) Division, East Operating Unit in Illinois Who Report to East Hanover, NJ; Amended Certification Regarding Eligibility To Apply for Worker Adjustment Assistance

In accordance with Section 223 of the Trade Act of 1974, as amended (“Act”), 19 U.S.C. 2273, the Department of Labor issued a Certification of Eligibility to Apply for Worker Adjustment Assistance on January 6, 2012, applicable to workers of Novartis Pharmaceuticals Corporation, Primary Care Business Unit (Sales) Division, East Hanover, New Jersey. The Department's notice of determination was published in the Federal Register on January 24, 2012 (77 FR 3501).

At the request of a worker, the Department reviewed the certification for workers of the subject firm.

New information shows that the Primary Care Business Unit (Sales) Division, East Hanover, New Jersey is part of the East Operating Unit.

The intent of the Department's certification is to include all workers of the subject firm who were adversely affected by increased imports. The amended notice applicable to TA-W-80,490 is hereby issued as follows:

All workers of Novartis Pharmaceuticals Corporation, Primary Care Business Unit (Sales) Division, East Operating Unit, including on-site leased workers from Inventiv Health, Ashfield Healthcare, and Pro Unlimited, East Hanover, New Jersey, and off-site workers of Novartis Pharmaceuticals Corporation, Primary Care Business Unit (Sales) Division, East Operating Unit in Illinois who report to East Hanover, New Jersey, who became totally or partially separated from employment on or after October 3, 2010, through January 6, 2014, and all workers in the group threatened with total or partial separation from employment on the date of certification through two years from the date of certification, are eligible to apply for adjustment assistance under Chapter 2 of Title II of the Trade Act of 1974, as amended.

Signed in Washington, DC, this 17th day of October 2012.
Del Min Amy Chen,
Certifying Officer, Office of Trade Adjustment Assistance.

[FR Doc. 2012-26486 Filed 10-26-12; 8:45 am]

BILLING CODE 4510-FN-P